FEDERAL COMMUNICATIONS COMMISSION

Notice of Public Information Collection(s) Being Reviewed by the Federal Communications Commission, Comments Requested

August 19, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden on small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before [October 25, 2010]. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov.

FOR FURTHER INFORMATION CONTACT: Judith B. Herman, Office of Managing Director, (202) 418-0214. For additional information, contact Judith B. Herman, OMD, 202-418-0214 or email judith-b.herman@fcc.gov.

SUPPLEMENTARY INFORMATION: OMB Control Number: 3060-0957.

Title: Section 20.18(i) and (g), Requests for Waiver of Deadline on Location-Capable Handset Deployment, Fourth Memorandum Opinion and Order, CC Docket No. 94-102.

Form No.: N/A.

Type of Review: Extension of a currently approved collection.

Respondents: Business or other for-profit, not-for-profit institutions and state, local or tribal government.

Number of Respondents and Responses: 2,500 respondents, 2,500 responses.

Estimated Time Per Response: 3 hours.

Frequency of Response: On occasion reporting requirement.

Obligation to Respond: Required to obtain or retain benefits. Statutory authority for this information collection is contained in 47 U.S.C. sections 154, 160, 251-254, 303 and 332.

Total Annual Burden: 7,500 hours.

Total Annual Cost: N/A.

Privacy Act Impact Assessment: N/A.

Nature and Extent of Confidentiality: No questions of a confidential nature are asked.

Needs and Uses: The Commission will submit this expiring information collection to the Office of Management and Budget (OMB) after this comment period to obtain the full three year clearance from them. There is no change to the reporting requirement. There is no change to the Commission's burden estimates.

The Commission's Fourth Memorandum Opinion and Order, FCC 00-326, CC Docket No. 94-102, sets forth guidelines for filing successful requests for waiver of E911 Phase II rules. Wireless carriers are instructed to submit waiver requests that are specific, focused and limited in scope, and with a clear path to compliance. A waiver request must specify the solutions considered and explain why none could be employed in a way that complies with Phase II rules. If deployment must be delayed, the carrier should specify the reason for the delay and provide a revised schedule.

The Commission will use the information submitted by petitioners to ensure that carriers comply with critical Phase II requirements in an orderly, timely, comprehensive fashion with no unnecessary delay.

Federal Communications Commission.

Marlene H. Dortch,
Secretary,
Office of the Secretary,
Office of Managing Director.

[FR Doc. 2010-21004 Filed 8-23-10; 8:45 am]

BILLING CODE 6712-01-S